DEPARTMENT OF THE INTERIOR

Fish and Wildlife Service

[FWS-HQ-IA-2015-N175; FXIA167109ADV15-156-FF09A00000]

Request for Nominees for the Advisory Council on Wildlife Trafficking; Extension of Nominations Period

AGENCY: Fish and Wildlife Service, Interior.

ACTION: Notice of extension of nominations period.

SUMMARY: On August 10, 2015, via a Federal Register notice, the Secretary of the Interior (Secretary), after consultation with the Co-Chairs of the Presidential Task Force on Wildlife Trafficking (Task Force), issued a call for nominations for individuals to serve on the Advisory Council on Wildlife Trafficking (Council). The due date for nominations is now extended.

DATES: Nominations must be received by September 25, 2015.

ADDRESSES: Send nominations, preferably by email, to Mr. Cade London, Special Assistant, Assistant Director for International Affairs, at acwtnominations@fws.gov. You may also send nominations via U.S. mail to U.S. Fish and Wildlife Service; Attention: Mr. Cade London; 5275 Leesburg Pike, MS: IA; Falls Church, VA 22041-3803.

FOR FURTHER INFORMATION CONTACT: Mr. Cade London, Special Assistant, Assistant Director for International Affairs, U.S. Fish and Wildlife Service, via email at cade_london@fws.gov, via phone at (703) 358-2584, or via fax at (703) 358-2115.

SUPPLEMENTARY INFORMATION: On August 10, 2015, via a Federal Register notice (80 FR 47946), the Secretary, after consultation with the Co-Chairs of the Task Force, issued a call for nominations for individuals to serve on the Council. The U.S. Fish and Wildlife Service is extending the nominations period to September 25, 2015.

The Council's Role and Membership

The Council was formed and conducts its operations in accordance with the provisions of the Federal Advisory Committee Act (5 U.S.C. Appendix). It reports to the Task Force through the Secretary of the Interior or her designee and functions solely as an advisory body. The Council advises and makes recommendations on issues related to combating wildlife trafficking, including, but not limited to:

(1) Effective support for anti-poaching activities,

(2) Coordinating regional law enforcement efforts,

(3) Developing and supporting effective legal enforcement mechanisms, and

(4) Developing strategies to reduce illicit trade and reduce consumer demand for illegally traded wildlife, including protected species.

The Council meets approximately 3-4 times annually, and at such time as designated by the Designated Federal Officer.

Members must include knowledgeable individuals from the private sector, former governmental officials, representatives of nongovernmental organizations, and others who are in a position to provide expertise and support to the Task Force. No member of the Council may be an employee of the Federal Government. Members' appointments will be for 3-year terms.

Individuals who are federally registered lobbyists are ineligible to serve on all FACA and non-FACA boards, committees, or councils in an individual capacity. The term “individual capacity” refers to individuals who are appointed to exercise their own individual best judgment on behalf of the government, such as when they are designated Special Government Employees, rather than being appointed to represent a particular interest.

Nominating Potential Council Members

The Department of the Interior is extending the nominations to be considered as Council members. Nominations should include a resume providing contact information and an adequate description of the nominee's qualifications, including information that would enable the Department of the Interior to make an informed decision regarding whether individual nominees meet the membership requirements of the Council.

Dated: September 3, 2015.
Bryan Arroyo,
Assistant Director for International Affairs, U.S. Fish and Wildlife Service.

[FR Doc. 2015-22816 Filed 9-9-15; 8:45 am]

BILLING CODE 4310-55-P